FEDERAL COMMUNICATIONS COMMISSION

[EB 01-66; DA 01-2775]

Emergency Alert Systems

AGENCY: Federal Communications Commission.

ACTION: Notice.

SUMMARY: The Commission has received an ex parte submission from the Media Access Project regarding the use of Emergency Alert System (EAS) decoders at low power FM broadcast stations. The Commission also received an ex parte submission jointly filed by the National Cable & Telecommunications Association, the National Association of the Deaf and the Telecommunications for the Deaf regarding the use of EAS decoders at small cable television systems. The Commission requests specific information regarding these requests to assist it in reaching an informed decision.

DATES: Comments are due on or before December 24, 2001.

ADDRESSES: Federal Communications Commission, Office of the Secretary, TW-A325, 445 12th Street, SW., Washington, DC 20554.

FOR FURTHER INFORMATION CONTACT: George Dillon of the Enforcement Bureau at (202) 418-1215 or by e-mail at gdillon@fcc.gov.

SUPPLEMENTARY INFORMATION: The Media Access Project (MAP) submitted an ex parte presentation regarding the use of certified Emergency Alert System (EAS) decoders at low power FM broadcast stations. The National Cable & Telecommunications Association, the Telecommunications for the Deaf, Inc. and the National Association of the Deaf (NCTA/NAD) submitted an ex parte presentation regarding the use of Emergency Alert System (EAS) decoders in connection with the Commission's Notice of Proposed Rule Making, Amendment of Part 11 of the Commission's Rules Regarding the Emergency Alert System, EB Docket No. 01-66.

MAP notes that the Commission adopted rules in the Low Power FM proceeding that recognized the budgetary constraints under which low power FM stations would operate and permitted low power FM station to install a FCC certified EAS decoder in lieu of an EAS encoder/decoder. MAP states that when the Commission adopted this requirement it recognized that FCC certified EAS decoders were not available, but expected certified decoders to become available at a cost similar to non-certified decoders. MAP states that there are no certified EAS decoders available and that it does not believe that they will become available at a reasonable price. In this regard, MAP indicates that the cost of a certified decoder would likely be at or near the cost of a certified EAS encoder/decoder. MAP requests that the FCC consider alternatives to the EAS requirement for Low Power FM stations, such as temporarily exempting low power FM stations from the requirement to install EAS decoders.

NCTA/NAD filed a joint ex parte submission requesting that the Commission permit small cable systems to use EAS decoders rather than an EAS encoder/decoder. NCTA/NAD state that the use of an EAS decoder could serve as an alternative to the Commission's EAS rules for cable systems that serve fewer than 5,000 subscribers and will meet the “best practices” procedures that the Commission agreed to consider in the Second Report and Order amending the EAS rules.

We seek to supplement the record in this docket with respect to MAP's request for alternative arrangements for EAS alerting and NCTA/NAD's request that small cable systems be permitted to install an EAS decoder as an alternative to the requirements of section 11.11 of the Commission's rules for small cable systems. We also seek specific comment from EAS manufacturers about the likelihood that they will manufacture and certify an EAS decoder. The date by which a FCC certified decoder would likely be available for purchase and the cost of any such decoder.

We note that small cable systems are required to install EAS encoder/decoders by October 1, 2002. This request for supplemental comment on the NCTA/NAD ex parte submission does not alter that requirement.

Interested parties may file comments concerning this matter on or before December 24, 2001. All filings must reference EB Docket No. 01-66 and should be sent to Magalie Roman Salas, Secretary, Federal Communications Commission, TW-A325, 445 12th Street, SW., Washington, DC 20554. Two copies should also be sent to the Technical and Public Safety Division, 445 12th Street, SW., Suite 7-C802, Washington, DC, 20554. Comments may also be filed using the Commission's Electronic Comment Filing System (ECFS). Comments filed through the ECFS can be sent as an electronic file via the Internet to http://www.fcc.gov/e-file/ecfs.html. Generally, only one copy of an electronic submission must be filed. In completing the transmittal screen, electronic filers should include their full name, Postal Service mailing address, and the applicable docket or rulemaking number. Parties may also submit an electronic comment by Internet e-mail. To receive filing instructions for e-mail comments, commenters should send an e-mail to ecfs@fcc.gov, and should include the following words in the body of the message, “get form <your e-mail address>.” A sample form and directions will be sent in reply. This is a “permit but disclose” proceeding pursuant to section 1.1206 of the Commission's rules. Presentations to or from Commission decision-making personnel are permissible provided that ex parte presentations are disclosed pursuant to section 1.1206(b) of the Commission's rules.

The full text of the comments is available for public inspection and copying during regular business hours at the FCC Reference Information Center, Portals II, 445 12th Street, SW., Room CY-A257, Washington, DC, 20554. The documents may also be purchased from the Commission's duplicating contractor, Qualex International, Portals II, 445 12th Street, SW., Room CY-B402, Washington, DC, 20554, telephone 202-863-2893, facsimile 202-863-2898, or via e-mail qualexint@aol.com. A copy of the requests from MAP and NCTA/NAD may also be viewed online at the FCC's E-filing System located at http://gullfoss2.fcc.gov/cgi-bin/ws.exe/prod/ecfs/comsrchv.hts by typing EB 01-66 in the Proceeding Block and clicking on Retrieve Document.

Federal Communications Commission.
David H. Solomon,
Chief, Enforcement Bureau.

[FR Doc. 01-30341 Filed 12-6-01; 8:45 am]

BILLING CODE 6712-01-P